DEPARTMENT OF AGRICULTURE

Forest Service

Bridger-Teton National Forest, Big Piney Ranger District, WY; Piney Creeks Vegetation Treatment

AGENCY: Forest Service, USDA.

ACTION: Notice of intent to prepare an environmental impact statement.

SUMMARY: The Big Piney Ranger District is proposing to implement vegetation management in the Piney Creek drainages throughout the next five-seven years. The need for vegetation management in this area has previously been identified and studied in the Bridger-Teton Forest Plan implemented in 1990, in public meetings held on the revision of the Forest Plan in 2008 and comprehensive evaluation reports for aspen, lodge pole pine, Douglas fir, spruce fir and white bark pine. The analysis area is approximately 20,000 acres within this watershed and includes the creeks of South, Middle and North on the Big Piney Ranger District of the Bridger-Teton National Forest. The area also includes Middle and North Piney Lakes, Wyoming Peak the Middle Piney Summer homes, Sacajawea and Middle Piney Lake campgrounds. Management opportunities, practices, standards and guidelines, and mitigation have been developed to help achieve desired resource conditions. These are the basis for this proposal and for further site specific analysis of effects. It is approximately 25 miles west of Big Piney, Wyoming in the Green River drainage, on the east slope of the Wyoming range. All lands within the analysis area are National Forest System lands within Sublette County, Wyoming. The legal description includes portions of T28N through T31N and R112W through R114W.

DATES: Comments concerning the scope of the analysis must be received by March 15, 2010. The draft environmental impact statement is expected in November 2011 and the final environmental impact statement is expected in April 2012.

ADDRESSES: Send written comments to District Ranger, Big Piney Ranger District, Box 218, Big Piney, Wyoming 83113. Comments may also be sent via e-mail to mailroorn_r4_bridger_teton@fs.fed.us and on the subject line put only “Piney Creeks Vegetation Treatment”, or via facsimile to 307-276-5250.

It is important that reviewers provide their comments at such times and in such a way that they are useful to the Agency's preparation of the EIS. Therefore, comments should be provided prior to the close of the comment period and should clearly articulate the reviewer's concerns and contentions.

Comments received in response to this solicitation, including names and addresses of those who comment, will be part of the public record for this proposed action. Comments submitted anonymously will be accepted and considered, however.

FOR FURTHER INFORMATION CONTACT: District Ranger, Big Piney Ranger District, Box 218, Big Piney, Wyoming 83113 or phone (307) 276-3710.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of this proposal is to improve Forest resource conditions in the South, Middle and North Piney Creek drainages, bringing them closer to desired conditions. Desired conditions for each of the DFC's would help restore healthy ecosystem functioning and support sustainable resource use.

Proposed Action

This proposal was developed in response to public issues from changes since the approval of the Forest Plan in 1990, Forest Plan Revision meetings, and recent resource issues. Treat up to 8,000 acres of aspen stands and the surrounding sagebrush with mechanical treatments and prescribed fire to regenerate healthy aspen and sagebrush and remove conifers. Harvest trees on approximately 4,000 acres using various cutting practices. This is to provide for regeneration of the declining lodge pole pine and mixed conifer forests and for age class diversity across the landscape.

Possible Alternatives

This alternative is required under NEPA regulations and also serves as a baseline of information for comparison of other alternatives. Though this alternative does not respond to the purpose and need for action, it does address some issues.

Responsible Official

District Forest Ranger, Big Piney Ranger District, P.O. Box 218, Big Piney, Wyoming 83113.

Nature of Decision To Be Made

This decision will be whether or not to implement specific vegetation management projects as allowed in the Bridger-Teton National Forest Plan. The decision would include any mitigation measures needed in addition to those prescribed in the Forest Plan.

Preliminary Issues

The Forest Service has identified the following potential issues. No determination has been made as to which issues will be examined in detail in the environmental analysis. Your input will help determine which of these issues merit detailed analysis and will also help identify additional issues related to the proposed action that may not be listed here.

Issue 1—Amount and/or types of vegetation treatments in the proposed action and the effects on old growth and mature vegetation for lynx, security cover for elk and other habitat, as well as Colorado cutthroat trout habitat.

Issue 2—Forest health, specifically the high proportion of older age class conifer stands and declining tree growth, dwarf mistletoe infection levels in lodge pole pine and high fuel loadings from dead and down material.

Issue 3—Amount of aspen treatments.

Scoping Process

This notice of intent initiates the scoping process, which guides the development of the environmental impact statement. The Forest Service is seeking information, comments, and assistance from individuals, organizations, tribal governments, and federal, state, and local agencies interested in or affected by this project. Public participation will be solicited by notifying in person and/or by mail known interested and affected publics. News releases will be used to give the public general notice. Public participation activities would include requests for written comments. The first formal opportunity to comment is to respond to this notice of intent, which initiates the scoping process (40 CFR 1501.7). Scoping includes: (1) Identifying potential issues, (2) narrowing the potential issues and identifying significant issues of those that have been covered by prior environmental review, (3) exploring alternatives in addition to No Action, and (4) identifying potential environmental effects of the proposed action and alternatives.

It is important that reviewers provide their comments at such times and in such manner that they are useful to the agency's preparation of the environmental impact statement. Therefore, comments should be provided prior to the close of the comment period and should clearly articulate the reviewer's concerns and contentions.

Dated: December 31, 2009.
Gregory Clark,
District Forest Ranger.

[FR Doc. 2010-2078 Filed 2-3-10; 8:45 am]

BILLING CODE 3410-11-M